DEPARTMENT OF LABOR

Employment and Training Administration

[TA-W-55,312]

Clear-Com Communication Systems, a Subsidiary of Vitec, Emeryville, CA; Notice of Termination of Investigation

Pursuant to Section 221 of the Trade Act of 1974, as amended, an investigation was initiated on July 23, 2004 in response to a petition filed on behalf of workers at Clear-Com Communication Systems, Emeryville, California.

The petitioners have requested that the petition be withdrawn. Consequently, further investigation would serve no purpose, and the investigation has been terminated.

Signed at Washington, DC, this 2nd day of August 2004.
Linda G. Poole
Certifying Officer, Division of Trade Adjustment Assistance.

[FR Doc. 04-18734 Filed 8-16-04; 8:45 am]

BILLING CODE 4510-30-P